Title 3—

The President

Executive Order 13258 of February 26, 2002

Amending Executive Order 12866 on Regulatory Planning and Review

By the authority vested in me as President by the Constitution and the laws of the United States of America, it is hereby ordered that Executive Order 12866, of September 30, 1993, is amended as follows:

Section 1. Section (2)(b) is amended by striking “, the Vice President, and other regulatory policy advisors” and inserting in lieu thereof “and regulatory policy advisors”.

Sec. 2. Section (2)(c) is amended by:

(a) striking in the heading the words “The Vice President” and inserting in lieu thereof “Assistance”;

(b) striking the sentence that begins “The Vice President is”;

(c) striking “In fulfilling their responsibilities” and inserting in lieu thereof “In fulfilling his responsibilities”; and

(d) striking “and the Vice President” both times it appears.

Sec. 3. Section 3(a) is amended by:

(a) striking “and Vice President”;

(b) striking “the Assistant to the President for Science and Technology” and inserting in lieu thereof “the Director of the Office of Science and Technology Policy”;

(c) striking “the Assistant to the President for Intergovernmental Affairs” and inserting in lieu thereof “the Deputy Assistant to the President and Director for Intergovernmental Affairs”;

(d) striking “the Deputy Assistant to the President and Director of the White House Office of Environmental Policy” and inserting in lieu thereof “the Chairman of the Council on Environmental Quality and Director of the Office of Environmental Quality”; and

(e) striking “and (12)” and inserting in lieu thereof “(12) the Assistant to the President for Homeland Security; and (13)”.

Sec. 4. Section 4(a) is amended by striking “the Vice President shall convene” and inserting in lieu thereof “the Director shall convene”.

Sec. 5. Section 4(c)(3) is amended by striking “, the Advisors, and the Vice President” and inserting in lieu thereof “and the Advisors”.

Sec. 6. Section 4(c)(4) is amended by striking “, the Advisors, and the Vice President” and inserting in lieu thereof “and the Advisors”.

Sec. 7. Section 4(c)(5) is amended by striking “, the Advisors, and the Vice President” and inserting in lieu thereof “and the Advisors”.

Sec. 8. Section 4(c)(6) is amended by striking “Vice President, with the Advisors' assistance,” and inserting in lieu thereof “Director”.

Sec. 9. Section 4(d) is amended by:

(a) striking “, the Advisors, and the Vice President” and inserting in lieu thereof “and the Advisors”; and

(b) striking “periodically advise the Vice President” and inserting in lieu thereof “periodically advise the Director”.

Sec. 10. Section 5(c) is amended by striking “Vice President” and inserting in lieu thereof “Director”.

Sec. 11. Section 6(b)(4)(C)(i) is amended by striking “Vice Presidential and”.

Sec. 12. Section 7 is amended by:

(a) striking “resolved by the President, or by the Vice President acting at the request of the President” and inserting in lieu thereof “resolved by the President, with the assistance of the Chief of Staff to the President (“Chief of Staff”)”;

(b) striking “Vice Presidential and Presidential consideration” and inserting in lieu thereof “Presidential consideration”;

(c) striking “recommendations developed by the Vice President” and inserting in lieu thereof “recommendations developed by the Chief of Staff”;

(d) striking “Vice Presidential and Presidential review period” and inserting in lieu thereof “Presidential review period”;

(e) striking “or to the staff of the Vice President” and inserting in lieu thereof “or to the staff of the Chief of Staff”;

(f) striking “the President, or the Vice President acting at the request of the President, shall notify” and insert in lieu thereof “the President, or the Chief of Staff acting at the request of the President, shall notify”.

Sec. 13. Section 7 is also amended in the first paragraph by inserting the designation “(a)” after the words “Resolution of Conflicts.”, and by designating the following three paragraphs as “(b)”, “(c)”, and “(d)” in order.

Sec. 14. Section 8 is amended by striking “Vice President” both times it appears and inserting in lieu thereof “Director”.

B

THE WHITE HOUSE,

February 26, 2002.

[FR Doc. 02-5069

Filed 2-27-02; 12:11 pm]

Billing code 3195-01-P